DEPARTMENT OF TRANSPORTATION

Federal Aviation Administration

[Summary Notice No. PE-2001-75]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR §§ 11.85 and 11.91.

Issued in Washington, D.C., on September 21, 2001.
Richard McCurdy,
Acting, Assistant Chief Counsel for Regulations.

Dispositions of Petitions

Docket No.: FAA-2001-9928.

Petitioner: EAC Flight Corp.

Section of 14 CFR Affected: 14 CFR 135.152(a).

Description of Relief Sought/Disposition: To permit EAC to operate its Canadair Challenger 600 aircraft without a digital flight data recorder installed on the aircraft.

Denial, 09/14/2001, Exemption No. 7623

Docket No.: FAA-2001-10045.

Petitioner: Mountain Air Cargo, Inc.

Section of 14 CFR Affected: 14 CFR 91.203(a) and (b), 121.153(a)(1), and 135.25(a)(1).

Description of Relief Sought/Disposition: To permit MAC to temporarily operate U.S.-registered aircraft in domestic airline operations under part 121 or part 135 without the airworthiness or registration certificate onboard.

Denial, 09/10/2001, Exemption No. 7620

Docket No.: FAA-2001-9456.

Petitioner: ACM Aviation, Inc.

Section of 14 CFR Affected: 14 CFR 135.152(i)(1).

Description of Relief Sought/Disposition: To permit ACM to operate one Dassault Falcon 900C aircraft (Registration No. N901SS, Serial No. 187) and one Dassault Falcon 900EX aircraft (Registration No. N910MW, Serial No. 85) under part 135 without recording the parameters listed in § 135.152(h)(1) through (h)(57) within the ranges, accuracies, resolutions, and recording intervals specified in appendix F to part 135.

Denial, 09/13/2001, Exemption No. 7624

Docket No.: FAA-2001-10264.

Petitioner: Learjet, Inc.

Section of 14 CFR Affected: 14 CFR 145.45(f).

Description of Relief Sought/Disposition: To permit Learjet to place and maintain its inspection procedures manual in a number of fixed locations within its facility and assign copies to key individuals in lieu of giving copies to each of its supervisory and inspection personnel.

Grant, 09/13/2001, Exemption No. 7098A

Docket No.: FAA-2001-10334.

Petitioner: Parker Hannifin Corporation .

Section of 14 CFR Affected: 14 CFR 43.9(a)(4), 43.11(a)(3), appendix B to part 43, and § 145.57(a).

Description of Relief Sought/Disposition: To permit Parket to use computer-generated electronic signatures in lieu of physical signatures to satisfy the signature requirements of FAA Form 8130-3, Airworthiness Approval Tag, when the form is used as approval for return to service.

Grant, 09/13/2001, Exemption No. 7096A

Docket No.: FAA-2001-10168.

Petitioner: Tennessee Technical Services, L.L.C.

Section of 14 CFR Affected: 14 CFR 145.45(f).

Description of Relief Sought/Disposition: To permit TTS to place and maintain its Inspection Procedures Manual (IPM) in a number of fixed locations within its facility and assign IPMs to key individuals rather than giving a copy of its IPM to each of its supervisory and inspection personnel.

Grant, 09/13/2001, Exemption No. 7092A

Docket No.: FAA-2001-10410.

Petitioner: Columbia Helicopters, Inc.

Section of 14 CFR Affected: 914 CFR 145.45(f).

Description of Relief Sought/Disposition: To permit Columbia to make its Inspection Procedures Manual available either electronically or in paper format in fixed locations rather than giving a copy to each of its supervisory and inspection personnel.

Grant, 09/13/2001, Exemption No. 7622

Docket No.: FAA-2001-10162.

Petitioner: Triad International Maintenance Corporation.

Section of 14 CFR Affected: 14 CFR 145.45(f).

Description of Relief Sought/Disposition: To permit TIMCO to place and maintain its Inspection Procedures Manual (IPM) in technical libraries in its five facility locations and assign copies of the IPM to key individuals rather than giving a copy to each of its supervisory and inspection personnel.

Grant, 09/13/2001, Exemption No. 7621

[FR Doc. 01-24095 Filed 9-25-01; 8:45 am]

BILLING CODE 4910-13-M